DEPARTMENT OF HEALTH AND HUMAN SERVICES

Centers for Disease Control and Prevention

[30Day-20-19BJD]

Agency Forms Undergoing Paperwork Reduction Act Review

In accordance with the Paperwork Reduction Act of 1995, the Centers for Disease Control and Prevention (CDC) has submitted the information collection request titled “Monitoring and Reporting for the Overdose Data to Action Cooperative Agreement” to the Office of Management and Budget (OMB) for review and approval. CDC previously published a “Proposed Data Collection Submitted for Public Comment and Recommendations” notice on July 25, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Monitoring and Reporting for the Overdose Data to Action Cooperative Agreement—New—National Center for Injury Prevention and Control (NCIPC), Centers for Disease Control and Prevention (CDC).

Background and Brief Description

This new data collection effort is to collect information from grantees funded under the Overdose Data to Action (OD2A) cooperative agreement program. OMB approval is requested for three years.

Drug overdose deaths in the United States increased by 18% per year from 2014 to 2016. Opioid overdose deaths have increased five-fold from 1999 to 2016, and in 2017, there were more than 47,000 deaths attributed to opioids. In 2017, the opioid epidemic was declared a public health emergency by the U.S. Department of Health and Human Services (HHS).

The purpose of the Overdose Data to Action cooperative agreement program, administered by the Centers for Disease Control and Prevention (CDC), is to support state and local public health jurisdictions in obtaining high quality, complete, and timely data on opioid prescribing and overdoses, and to use this data to inform prevention and response efforts. There are two required components of this award: A surveillance component and a prevention component. The intent is to ensure that funded grantees are well equipped to do rigorous work under both components.

CDC requests OMB approval to collect information from 66 funded jurisdictions about the resources, plans, and activities needed to control the epidemic of fatal and nonfatal overdoses caused by opioids and other drugs. Awardees will submit to CDC an evaluation and performance measurement plan using a preformatted template; an organizational capacity assessment using an online tool; and an electronic activity progress report and work plan tool. Burden per response will be highest for the first year of funding during initial population of each electronic reporting form. In subsequent years, burden per response will decrease as awardees will only need to update the information requested on each form. CDC will also collect a one-time Surveillance Data Dissemination Plan which is not part of the annual reporting requirement.

The information collected will provide crucial data to CDC for program monitoring and budget tracking, to improve CDC-recipient communications, and to inform technical assistance and guidance documents produced by CDC to support program implementation among funded grantees. It will also provide CDC with the capacity to respond in a timely manner to requests for information about the program from HHS, the White House, Congress, and other sources. The data will be analyzed using descriptive, summary statistics, and qualitative summaries.

Participation in this information collection is required for funded awardees. There are no costs to the respondents other than their time. The total estimated annualized burden hours are 1,342.

Estimated Annualized Burden Hours
Type of respondents | Form name | Number of respondents | Number of responses per respondent | Average burden per response (in hours)
Overdose Data to Action funded jurisdictions (State, territories, counties and cities) and their Designated Delegates | Evaluation and Performance Measuring Plan Template—Initial Population | 22 | 1 | 12
| Evaluation and Performance Measuring Plan Template—Annual reporting | 66 | 1 | 4
| Organizational Capacity Assessment—Initial Population | 22 | 1 | 1
| Organizational Capacity Assessment—Annual Reporting | 66 | 1 | 1
| Activity Progress Report and Work Plan Tool—Initial Population | 22 | 1 | 20
| Activity Progress Report and Work Plan Tool—Annual Reporting | 66 | 1 | 4
| Surveillance Data Dissemination Plan Tool | 22 | 1 | 1

Jeffrey M. Zirger,
Lead, Information Collection Review Office, Office of Scientific Integrity, Office of Science, Centers for Disease Control and Prevention.

[FR Doc. 2019-23999 Filed 11-1-19; 8:45 am]

BILLING CODE 4163-18-P